FEDERAL COMMUNICATIONS COMMISSION

Deletion of Agenda Item From November 4, 2008, Open Meeting

November 3, 2008.

The following item has been deleted from the list of Agenda items scheduled for consideration at the November 4, 2008, Open Meeting and previously listed in the Commissioner's Notice of October 28, 2008, 73 FR 64947, October 31, 2008.

Item No. | Bureau | Subject
1 | WIRELINE COMPETITION | TITLE: High-cost Universal Service Support (WC Docket No. 05-337); Federal-State Joint Board on Universal Service (CC Docket No. 96-45); Lifeline and Link Up (WC Docket No. 03-109); Universal Service Contribution Methodology (WC Docket No. 06-122); Telecommunications Relay Services and Speech-to-Speech Services for Individuals with Hearing and Speech Disabilities (CG Docket No. 03-123); Implementation of the Local Competition Provisions in the Telecommunications Act of 1996 (CC Docket No. 96-98); Developing a Unified Intercarrier Compensation Regime (CC Docket No. 01-92); Intercarrier Compensation for ISP-Bound Traffic (CC Docket No. 99-68); and IP-Enabled Services (WC Docket No. 04-36).
|  | SUMMARY: The Commission will consider a Report and Order, Order on Remand, and Further Notice of Proposed Rulemaking addressing the comprehensive reform of intercarrier compensation and universal service.

Federal Communications Commission.
Marlene H. Dortch,
Secretary.

[FR Doc. E8-26740 Filed 11-6-08; 11:15 am]

BILLING CODE 6712-01-P